DEPARTMENT OF ENERGY

Proposed Agency Information Collection Extension With Changes

AGENCY: U.S. Energy Information Administration (EIA), U.S. Department of Energy.

ACTION: Notice and request for OMB review and comment.

SUMMARY: EIA has submitted an information collection request to the OMB for extension with changes, under the provisions of the Paperwork Reduction Act of 1995, for the Electric Power and Renewable Electricity Surveys (OMB Control Number 1905-0129) information collection. EIA requests a three-year clearance with changes for the following forms:

Form EIA-63B, “Photovoltaic Module Shipments Report”

Form EIA-411, “Coordinated Bulk Power Supply Program Report”

Form EIA-826, “Monthly Electric Utility Sales and Revenue Report with State Distributions” (will be replaced by EIA-861M)

Form EIA-860, “Annual Electric Generator Report”

Form EIA-860M, “Monthly Update to the Annual Electric Generator Report”

Form EIA-861, “Annual Electric Power Industry Report”

Form EIA-861S, “Annual Electric Power Industry Report (Short Form)”

Form EIA-861M, “Monthly Electric Power Industry Report” (will replace EIA-826)

Form EIA-923, “Power Plant Operations Report”

Form EIA-930, “Balancing Authority Operations Report”

DATES: Comments regarding this collection must be received on or before November 21, 2016. If you anticipate that you will be submitting comments, but find it difficult to do so within the period of time allowed by this notice, please advise the DOE Desk Officer at OMB of your intention to make a submission as soon as possible. The Desk Officer may be telephoned at 202-395-4718 or contacted by email at Chad_S_Whiteman@omb.eop.gov.

ADDRESSES: Written comments should be sent to the:

DOE Desk Officer, Office of Information and Regulatory Affairs, Office of Management and Budget, New Executive Office Building, Room 10102, 735 17th Street NW., Washington, DC 20503, Chad_S_Whiteman@omb.eop.gov

And to

Rebecca Peterson, Electricity2017@eia.gov, U.S. Energy Information Administration, Mail Stop EI-23, Forrestal Building, 1000 Independence Avenue SW., Washington, DC 20585, (Email is preferred)

FOR FURTHER INFORMATION CONTACT: Direct any requests for additional information or copies of the information collection instruments and instructions to Rebecca Peterson at Electricity2017@eia.gov or at 202-586-4509. The collection instruments and instructions are also available on the Internet at: http://www.eia.gov/survey/changes/electricity/solar/.

SUPPLEMENTARY INFORMATION: This information collection request contains:

(1) OMB No.: 1905-0129;

(2) Information Collection Request Title: Electricity and Renewables Power Surveys;

(3) Type of Request: Extension, with changes of a currently approved collection;

(4) Purpose: The electricity and renewables surveys collect data from entities involved in the production, transmission, delivery, and sale of electricity, and in maintaining the reliable operation of the power system. The data collected are the primary source of information on the nation's electric power industry. EIA uses the data collected on the electric power surveys to answer queries from the U.S. Congress, other federal and state agencies, the electric power industry, and the public; and as input to the National Energy Modeling System (NEMS) and to EIA's other forecasting and analytical activities. Other users of the data include policy makers, regulators, energy market analysts, and the energy industries.

Changes to the currently approved forms in this package can be summarized as follows:

• Form EIA-63B: Change from a monthly only to an annual and monthly collection and eliminate questions about photovoltaic cells which will result in a significant decrease in burden;

• Form EIA-411: Discontinue the collection of historical information associated with demand, capacity, transactions, and reserve margins;

• Form EIA-826: Discontinue this form and replace it with Form EIA-861M (see further below);

• Form EIA-860: Require plants in Puerto Rico to begin reporting and add questions concerning storage capacity, solar generators, virtual net metering agreements, and planned retirement dates of environmental equipment;

• Form EIA-860M: Add questions regarding net metering agreements involving newly operable solar generators;

• Form EIA-861: Add questions regarding small scale storage and virtual net metered capacity;

• Form EIA-861 M (which replaces the Form EIA-826): Add questions regarding capacity;

• Form EIA-923: Reduce the current monthly sample via a more efficient model-based cutoff design; require plants in Puerto Rico to begin reporting, remove data protection for coal and petroleum stocks, collect the mercury removal rate for environmental equipment, collect data from plants that are operating under test conditions;

• Form EIA-930: Require respondents to report hourly sub-regional demand, hourly net generation by standard fuel type, and their hourly total actual demand within 30 minutes (instead of the current 60 minutes) of the end of the data hour.

(5) Annual Estimated Number of Respondents: The annual estimated number of respondents on the electric and solar surveys is 16,770;

(6) Annual Estimated Number of Total Responses: The annual estimated number of total responses is 65,716;

(7) Annual Estimated Number of Burden Hours: The annual estimated number of burden hours is 152,120 which represents an increase of 10,975 burden hours from the prior renewal of this collection. Most of the overall change is driven by an overall 17-percent increase in survey respondents due to rapid growth in the electric power industry. To a smaller extent, the increase is due to additional questions that are needed on certain surveys to optimize data coverage while adding only a minimal increase in burden and to the requirement for plants in Puerto Rico to begin reporting on the Forms EIA-860 and EIA-923.

(8) Annual Estimated Reporting and Recordkeeping Cost burden: New respondents will incur a one-time total startup cost of $14,400. This will apply to the 25 power companies in Puerto Rico that will be new respondents (25 companies times 8 hours times $72.02 per hour, the current hourly rate for an EIA employee). EIA estimates that for each of these companies it will take 8 hours to configure their reporting systems, review instructions, search their data systems and receive authentication for EIA's Single Sign-on Internet Data Collection System in order to report electronically. Additional costs to respondents are not anticipated beyond costs associated with response burden. This information is maintained in the normal course of business. The total annual cost of burden hours to the respondents for all nine surveys is estimated to be $10,955,682 (152,120 burden hours times $72.02 per hour). Other than the cost of burden hours, EIA estimates that there are no additional costs for generating, maintaining, and providing the information.

Statutory Authority: Section 13(b) of the Federal Energy Administration Act of 1974, Pub. L. 93-275, codified at 15 U.S.C. 772(b).

Issued in Washington, DC, October 14, 2016.
Nanda Srinivasan,
Director, Office of Survey Development and Statistical Integration, U.S. Energy Information Administration.

[FR Doc. 2016-25504 Filed 10-20-16; 8:45 am]

BILLING CODE 6450-01-P